DEPARTMENT OF HEALTH AND HUMAN SERVICES

48 Parts 301, 303 and 333

Notice of Adoption of the Health and Human Services Acquisition Regulations (HHSAR) and OIG Class Deviations

AGENCY: Office of Inspector General (OIG), HHS.

ACTION: HHS OIG adoption of the HHSAR, and deviation from three clauses.

SUMMARY: This announcement establishes that the OIG contracting activity will follow the requirements of the HHSAR, subject to three deviations establishing that OIG personnel shall seek legal guidance from the Office of Counsel to the Inspector General instead of the Office of the General Counsel.

DATES: These deviations are effective on August 26, 2016.

FOR FURTHER INFORMATION CONTACT: Brian Hildebrandt, Office of Counsel to the Inspector General, Office of Inspector General, (202)205-9493.

SUPPLEMENTARY INFORMATION:

I. Background

Notice is hereby given that the Office of Inspector General (OIG) adopts the Health and Human Services Acquisition Regulations (HHSAR) as issued in the Code of Federal Regulations (CFR) as chapter 3 of title 48; as promulgated by the Assistant Secretary for Financial Resources (ASFR) under the authority of 5 U.S.C. 301 and section 205(c) of the Federal Property and Administrative Services Act of 1949, as amended (40 U.S.C. 121(c)(2)), and as delegated by the Secretary.

In addition, by the authority vested in the Senior Procurement Executive (SPE) in accordance with 48 CFR chapter 3, section 301.401 of the HHSAR, and 48 CFR chapter 1, section 1.401 of the Federal Acquisition Regulations (FAR), I execute three class deviations from the HHSAR to ensure compliance with section 3(g) of the Inspector General Act. These deviations establish the OIG shall make use of the Office of Counsel to the Inspector General (OCIG), and not Office of the General Counsel (OGC), for the purposes of HHSAR sections 301.602-3; 303.203; & 333.102(g)(1); and further reaffirm the requirement that OCIG be consulted when the HHSAR and/or FAR require consultation with legal counsel.

Dated: August 2, 2016.
Joanne M. Chiedi,
Principal Deputy Inspector General, Senior Procurement Executive for OIG.

[FR Doc. 2016-18790 Filed 8-25-16; 8:45 am]

BILLING CODE 4152-01-P